DEPARTMENT OF THE INTERIOR

Bureau of Land Management

[LLAZP02000.L51010000.FX0000.LVRWA12A3170; AZA35927]

Notice of Intent To Prepare an Environmental Impact Statement for the Proposed Maricopa Solar Park Project in Maricopa County, AZ

AGENCY: Bureau of Land Management, Interior.

ACTION: Notice of intent.

SUMMARY: In compliance with the National Environmental Policy Act of 1969, as amended (NEPA), and the Federal Land Policy and Management Act of 1976, as amended, the Bureau of Land Management (BLM) Lower Sonoran Field Office, Phoenix, Arizona, intends to prepare an environmental impact statement (EIS) and by this notice is announcing the beginning of the scoping process to solicit public comments and identify issues.

DATES: This notice initiates the public scoping process for the EIS. Comments on issues may be submitted in writing until October 21, 2013. The date(s) and location(s) of scoping meetings will be announced at least 15 days in advance through local media, newspapers, and the BLM Web site at http://www.blm.gov/az/st/en/prog/energy/solar/maricopa-solar.html. In order to be included in the Draft EIS, all comments must be received prior to the close of the scoping period or 15 days after the last public meeting, whichever is later. The BLM will provide additional opportunities for public participation upon publication of the Draft EIS.

ADDRESSES: You may submit comments related to the Maricopa Solar Park Project by any of the following methods:

• Email: BLM_AZ_Maricopasolar@blm.gov.

• Fax: 623-580-5580.

• Mail: Bureau of Land Management, Phoenix District Office, Lower Sonoran Field Office, Attention: Joe Incardine/Maricopa Solar Park Project, 21605 North 7th Avenue, Phoenix, AZ 85027-2929.

Documents pertinent to this proposal may be examined at the Lower Sonoran Field Office.

FOR FURTHER INFORMATION CONTACT: Joe Incardine, National Project Manager, telephone 801-539-4118; address Bureau of Land Management, Phoenix District Office, Lower Sonoran Field Office, 21605 North 7th Avenue, Phoenix, AZ 85027-2929; email jincardi@blm.gov. Contact Mr. Incardine if you wish to add your name to our mailing list.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The applicant, Marisol Energy 2, LLC (Marisol), has requested a right-of-way authorization to develop and operate the Maricopa Solar Park Project, a photovoltaic (PV) solar power plant with a planned generating capacity of up to 300 megawatts. Marisol is a sister company of the Italian-based Siderurgica Investimenti. Siderurgica Investimenti is the holding company of an industrial group operating at an international level in the sectors of steel and metal production, renewable energy, and natural gas.

The project would be located on approximately 1,730 acres of BLM-managed land within the Phoenix District Office, Lower Sonoran Field Office in Maricopa County, Arizona, approximately 30 miles southwest of Phoenix. The proposed project would consist of one or more phases, based upon potential power purchase agreement(s) with electrical utility companies. The project proposes to use mono/polycrystalline or “thin film” PV modules, which would be mounted on horizontal single-axis trackers or on fixed mounting systems. The type of PV modules and mounting systems selected by Marisol would maximize efficiency and energy production. The facility would have an onsite high-voltage substation, with high-voltage power transformers stepping up energy to 345-kilovolts. Electrical energy from the onsite switchyard would be delivered to the existing Pinal West Substation through one or two new high-voltage transmission lines, each 2.3-miles long. The facility is proposed to operate for a grant term of 30 years. Additional applicable permits from Federal, State, and local agencies would be required.

As the project is located outside of a solar energy zone identified in the Solar Programmatic Environmental Impact Statement Record of Decision, a variance application was required. Marisol submitted its variance application for consideration to the BLM Arizona State Office and the BLM Washington Office. A public information meeting was held in Maricopa, Arizona, on February 5, 2013. The BLM Washington Office approved the Marisol variance application in June 2013.

The purpose of the public scoping process is to determine relevant issues that will influence the environmental analysis, including alternatives, and guide the process for developing the EIS. At present, the BLM has identified the following preliminary issues: Impacts to cultural resources, visual resources, grazing allotments, recreation, and local wildlife corridors. The project site is adjacent to the Sonoran Desert National Monument, a unit of the BLM National Landscape Conservation System.

The BLM will use and coordinate the NEPA commenting process to help with the public involvement process for Section 106 of the National Historic Preservation Act (NHPA) (16 U.S.C. 470f) as provided for in 36 CFR 800.2(d)(3). The information about historic and cultural resources within the area potentially affected by the proposed project will assist the BLM in identifying and evaluating impacts to such resources in the context of both NEPA and Section 106 of the NHPA.

The BLM will consult with Indian tribes on a government-to-government basis in accordance with Executive Order 13175 and other policies. Native American tribal consultation will be conducted in accordance with policy, and tribal concerns will be given due consideration, including impacts on Indian Trust assets. Federal, State, and local agencies, along with other stakeholders that may be interested or affected by the BLM's decision on this project, are invited to participate in the scoping process and, if eligible, may request or be requested by the BLM to participate as a cooperating agency.

Before including your address, phone number, email address, or other personal identifying information in your comment, you should be aware that your entire comment—including your personal identifying information—may be made publicly available at any time. While you can ask us in your comment to withhold your personal identifying information from public review, we cannot guarantee that we will be able to do so.

Authority: 40 CFR 1501.7.

Raymond Suazo,
Arizona State Director.

[FR Doc. 2013-22790 Filed 9-19-13; 8:45 am]

BILLING CODE 4310-32-P